DEPARTMENT OF COMMERCE

National Oceanic and Atmospheric Administration

Agency Information Collection Activities; Submission to the Office of Management and Budget (OMB) for Review and Approval; Comment Request; External Needs Assessment for NOAA Education Products and Programs

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 23, 2021, during a 60-day comment period. This notice allows for an additional 30 days for public comments.

Agency: National Oceanic & Atmospheric Administration (NOAA), Commerce.

Title: External Needs Assessment for NOAA Education Products and Programs.

OMB Control Number: 0648-0784.

Form Number(s): None.

Type of Request: Regular submission [revision and extension of currently approved collection].

Number of Respondents: 1,200 annually.

Average Hours per Response: Five minutes per survey.

Total Annual Burden Hours: 100.

Needs and Uses: This is a request for revision and extension of a currently approved information collection. The National Ocean Service (NOS) on behalf of the NOAA's Education Council is revising and extending a voluntary multi-question survey used to assess the needs of educators pertaining to the development of future NOAA multimedia products and programs. In developing multimedia materials that convey NOAA science, service, and stewardship, the Agency must ensure that these resources are of the highest quality and meet the needs of formal and informal educators across the United States. To achieve this goal, it is necessary to conduct surveys identifying the types of educational programs and products that are of the highest interest and greatest need by formal and informal educators. By surveying external educators to gather this information, budget expenditures will be used optimally to develop appropriate products and programs most desired by educators to support and enhance Ocean and Earth science, in addition to other related STEM education subjects throughout our nation. NOAA will use the data to plan, design, and create multimedia products and programs.

The proposed revisions would expand the level of detail in the currently approved information collection. As a result of the Covid-19 pandemic, learning and teaching have changed. The proposed revisions would expound upon previously collected data, giving a better indication of educators' needs regarding multimedia products and programs in their teaching as well as the educator's professional development.

Affected Public: Formal and Informal Educators.

Frequency: Once annually.

Respondent's Obligation: Voluntary.

Legal Authority: The America COMPETES Act, 33 U.S.C. 893-893B, which directs NOAA to conduct, develop, support, promote, and coordinate formal and informal educational activities at all levels to enhance public awareness and understanding of ocean, coastal, Great Lakes, and atmospheric science.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0784.

Sheleen Dumas,
Department PRA Clearance Officer, Office of the Chief Information Officer, Commerce Department.

[FR Doc. 2021-23279 Filed 10-25-21; 8:45 am]

BILLING CODE 3510-JE-P